DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for licensing by the Department of the Navy.

U.S. Patent No. 5,234,594: Nanochannel Filter, Navy Case No. 74,135.//U.S. Patent No. 5,264,722: Nanochannel Glass Matrix Used in Making Mesoscopic Structures, Navy Case No. 74,224.//U.S. Patent No. 5,306,661: Method of Making a Semiconductor Device Using a Nanochannel Glass Matrix, Navy Case No. 75,412.//U.S. Patent No. 5,332,681: Method of Making a Semiconductor Device by Forming a Nanochannel Mask, Navy Case No. 74,199.//U.S. Patent No. 5,585,640: Glass Matrix Doped with Activated Luminescent Nanocrystalline Particles, Navy Case No. 76,342.//U.S. Patent No. 5,606,163: All-Optical Rapid Readout, Fiber-Coupled Thermoluminescent Dosimeter System, Navy Case No. 76,626.//U.S. Patent No. 5,656,815: Thermoluminescence Radiation Dosimetry Using Transparent Glass Containing Nanocrystalline Phosphor, Navy Case No. 76,602.//U.S. Patent No. 5,811,822: Optically Transparent, Optically Stimulable Glass Composites for Radiation Dosimetry, Navy Case No. 77,637.//U.S. Patent No. 6,087,666: Optically Stimulated Luminescent Fiber Optic Radiation Dosimeter, Navy Case No. 78,583.//U.S. Patent No. 6,140,651: Optically Stimulated Fast Neutron Sensor and Dosimeter and Fiber-Optic-Coupled Fast Neutron Remote Sensor and Dosimeter, Navy Case No. 77,736.//U.S. Patent No. 6,153,339: Volume Holographic Data Storage with Doped High Optical Quality, Navy Case No. 78,514.//U.S. Patent No. 6,211,526: Marking of Materials Using Luminescent and Optically Stimulable Glasses, Navy Case No. 78,643.//U.S. Patent No. 6,297,918: Hybrid Thermal-Defocusing/Nonlinear-Scattering Broadband Optical Limiter for the Protection of Eyes and Sensors, Navy Case No. 75,855.//U.S. Patent No. 6,307,212: High Resolution Imaging Using Optically Transparent Phosphors, Navy Case No. 78,753.//Navy Case No. 75,434: Nanochannel Filter.//Navy Case No. 77,140: All-Optical Rapid Readout, Fiber-Coupled Thermoluminescent Dosimeter System.//Navy Case No. 77,141: Activated Nanocrystalline Semiconductor and Insulator Materials.//Navy Case No. 77,324: Laser-Heated Thermoluminescence Radiation Dosimeter.//Navy Case No. 79,804: Optically Stimulated Luminescent Fiber Optic Radiation Dosimeter.//Navy Case No. 79,814: Optically Stimulated Fast Neutron Dosimeter and Fiber-Optic-Coupled Fast Neutron Remote Sensor.//Navy Case No. 80,247: High Resolution Imaging Using Optically Transparent Phosphors.//Navy Case No. 83,713: Fabrication of Microelectrodes Arrays Having High Aspect Ratio Microwires.//Navy Case No. 84,115: Dose-Guided Radiotherapy.

ADDRESSES: Requests for copies of the inventions cited should be directed to the Naval Research Laboratory, Code 1004, 4555 Overlook Avenue, SW., Washington, DC 20375-5320, and must include the Navy Case number.

FOR FURTHER INFORMATION CONTACT: Catherine M. Cotell, Ph.D., Head, Technology Transfer Office, NRL Code 1004, 4555 Overlook Avenue, SW., Washington, DC 20375-5320, telephone (202) 767-7230. Due to temporary U.S. Postal Service delays, please fax (202) 404-7920, E-Mail: cotell@nrl.navy.mil or use courier delivery to expedite response.

(Authority: 35 U.S.C. 207, 37 CFR Part 404.)

Dated: April 28, 2003.
R.E. Vincent II,
Lieutenant Commander, Judge Advocate General's Corps, U.S. Navy, Federal Register Liaison Officer.

[FR Doc. 03-10850 Filed 5-1-03; 8:45 am]

BILLING CODE 3810-FF-P